DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Substance Abuse Prevention and Treatment Block Grant Regulations—45 CFR part 96 (OMB No. 0930-0163; Extension, no change)—This interim final rule provides guidance to States regarding the Substance Abuse Prevention and Treatment Block Grant legislation. The rule implements the reporting and recordkeeping requirements of 42 U.S.C. 300x21-35 and 51-64 by specifying the content of the States' annual report on and application for block grant funds. The reporting burden hours are counted towards the total burden for the Substance Abuse Prevention and Treatment Block Grant Application Format (OMB No. 0930-0080) for which separate approval is obtained. The total annual reporting and recordkeeping burden estimate is shown below:

45 CFR Citation | Number of respondents | Responses/ respondent | Hours/ response | Total hour burden
Reporting Burden
Annual Report:
96.122(d) ¹ | 60 | 1 | 0 | 0
96.122(f); 96.126(f) | 60 | 1 | 152 | 9,120
96.134(d) | 60 | 1 | 16 | 960
State Plan:
96.122(g) | 60 | 1 | 162 | 9,720
96.124(c)(1) | 60 | 1 | 40 | 2,400
96.127(b) | 60 | 1 | 8 | 480
96.131(f) | 60 | 1 | 8 | 480
96.133(a) | 60 | 1 | 80 | 4,800
Waivers: ²
96.122(d) | 26 | 1 | 1 | 26
96.124(d) | 0 | 1 | 40 | 0
96.132(d) | 0 | 1 | 16 | 0
96.134(b) | 3 | 1 | 40 | 120
96.135(d) | 0 | 1 | 8 | 8
Total Reporting Burden ³ | 60 | 1 |  | 28,106
Recordkeeping Burden
96.129(a)(13) | 60 | 1 | 16 | 960
¹ There was a one-time burden associated with change of the due date for the annual report effective with the FY 2001 application.
² The number of respondents per year for the waiver requests is based on actual experience over the past several years.
³ All reporting burden is associated with the annual report, State plan, and waivers is approved under OMB control number 0930-0080. Only the information collection language in the regulation and the recordkeeping burden are approved under OMB control number 0930-0163.

Written comments and recommendations concerning the proposed information collection should be sent within 30 days of this notice to: Stuart Shapiro, Human Resources and Housing Branch, Office of Management and Budget, New Executive Office Building, Room 10235, Washington, DC 20503.

Dated: December 11, 2000.
Richard Kopanda,
Executive Officer, SAMHSA.

[FR Doc. 00-32104 Filed 12-15-00; 8:45 am]

BILLING CODE 4162-20-P